DEPARTMENT OF THE TREASURY

Office of Foreign Assets Control

31 CFR Part 515

Cuban Assets Control Regulations

AGENCY: Office of Foreign Assets Control, Treasury.

ACTION: Final rule.

SUMMARY: The Department of the Treasury's Office of Foreign Assets Control (OFAC) is amending the Cuban Assets Control Regulations to implement elements of the policy announced by the Administration on May 16, 2022 to increase support for the Cuban people. This rule authorizes group people-to-people educational travel to Cuba and removes certain restrictions on authorized academic educational activities, authorizes travel to attend or organize professional meetings or conferences in Cuba, removes the $1,000 quarterly limit on family remittances, and authorizes donative remittances to Cuba. These amendments also add or update several cross references.

DATES: This rule is June 9, 2022.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

The Department of the Treasury issued the Cuban Assets Control Regulations, 31 CFR part 515 (the “Regulations”), on July 8, 1963, under the Trading With the Enemy Act (50 U.S.C. 4301-44). OFAC has amended the Regulations on numerous occasions. Today, OFAC, in consultation with the Department of State, is amending the Regulations to implement certain policy changes announced by the Administration on May 16, 2022 to increase support for the Cuban people, as set forth below.

Professional meetings and conferences in Cuba. OFAC is amending the general license at § 515.564 to include an authorization for travel-related and other transactions incident to travel to Cuba to attend or organize professional meetings or conferences in Cuba. OFAC is also amending and adding cross-references to § 515.564(a) in notes to §§ 515.534, 515.542, 515.547, 515.572, 515.577, and 515.591.

Group people-to-people educational travel and other academic educational activities. OFAC is amending the general license at § 515.565 to add an authorization for group people-to-people educational travel that takes place under the auspices of an organization that is subject to U.S. jurisdiction and that sponsors such exchanges to promote people-to-people contact, subject to certain restrictions. Such travelers must be accompanied by an employee, paid consultant, or agent of the sponsoring organization. Travel-related transactions authorized pursuant to § 515.565(b) must be for the purpose of engaging, while in Cuba, in a full-time schedule of activities that are intended to enhance contact with the Cuban people, support civil society in Cuba, or promote the Cuban people's independence from Cuban authorities; and will result in meaningful interactions with individuals in Cuba. OFAC is also amending the general license at § 515.565 to remove certain restrictions on authorized academic educational activities. This amendment does not authorize individual people-to-people travel-related transactions. OFAC is not authorizing travel-related transactions for travel to, from, or within Cuba for tourist activities, which are prohibited by statute.

Remittances. OFAC is amending § 515.570(a) to remove the $1,000 quarterly limit on remittances to Cuban nationals who are close relatives. OFAC is also adding § 515.570(b) to authorize donative remittances to Cuban nationals who are not prohibited officials of the Government of Cuba, prohibited members of the Cuban Communist Party, or close relatives of a prohibited official of the Government of Cuba or prohibited member of the Cuban Communist Party. OFAC is also adding § 515.570(h) authorizing the unblocking and return of blocked remittances, provided they would be authorized under § 515.570(a) or (b).

Public Participation

Because the Regulations involve a foreign affairs function, the provisions of Executive Order 12866 of September 30, 1993, “Regulatory Planning and Review” (58 FR 51735, October 4, 1993), and the Administrative Procedure Act (5 U.S.C. 553) requiring notice of proposed rulemaking, opportunity for public participation, and delay in effective date are inapplicable. Because no notice of proposed rulemaking is required for this rule, the Regulatory Flexibility Act (5 U.S.C. 601-612) does not apply.

Paperwork Reduction Act

The collections of information related to the Regulations are contained in 31 CFR part 501 (the “Reporting, Procedures and Penalties Regulations”) and § 515.572 of this part. Pursuant to the Paperwork Reduction Act of 1995 (44 U.S.C. 3507), those collections of information have been approved by the Office of Management and Budget under control number 1505-0164, 1505-0167, and 1505-0168. An agency may not conduct or sponsor, and a person is not required to respond to, a collection of information unless the collection of information displays a valid control number.

List of Subjects in 31 CFR Part 515

Administrative practice and procedure, Banks, banking, Blocking of assets, Cuba, Credit, Foreign trade, Penalties, Professional meetings, Remittances, Reporting and recordkeeping requirements, Sanctions, Securities, Services, Travel restrictions.

For the reasons set forth in the preamble, OFAC amends 31 CFR part 515 as follows:

PART 515—CUBAN ASSETS CONTROL REGULATIONS

1. The authority citation for part 515 continues to read as follows:

Authority: 22 U.S.C. 2370(a), 6001-6010, 7201-7211; 31 U.S.C. 321(b); 50 U.S.C. 4301-4341; Pub. L. 101-410, 104 Stat. 890 (28 U.S.C. 2461 note); 22 U.S.C. 6021-6091; Pub. L. 105-277, 112 Stat. 2681; Pub. L. 111-8, 123 Stat. 524; Pub. L. 111-117, 123 Stat. 3034; E.O. 9989, 13 FR 4891, 3 CFR, 1943-1948 Comp., p. 748; Proc. 3447, 27 FR 1085, 3 CFR, 1959-1963 Comp., p. 157; E.O. 12854, 58 FR 36587, 3 CFR, 1993 Comp., p. 614.

Subpart E—Licenses, Authorizations, and Statements of Licensing Policy

§ 515.534 [Amended]

2. In note to § 515.534, after “certain items to Cuba” add “, and § 515.564(a)(2) for a general license authorizing travel-related and other transactions incident to attending or organizing professional meetings in Cuba, which include professional meetings relating to the negotiation of contingent contracts authorized by this section”.

3. Amend note 1 to § 515.542 by adding a sentence to the end to read as follows:

§ 515.542 Mail and telecommunications-related transactions.

* * * * *

Note 1 to § 515.541: * * * For an authorization of travel-related transactions that are directly incident to participation in professional meetings, including where such meetings relate to telecommunications services or other activities authorized by paragraphs (b) through (e) of this section, see § 515.564(a).

* * * * *

§ 515.547 [Amended]

4. In note 2 to paragraph (a), after “research” add “and professional meetings”.

§ 515.561 [Amended]

5. In § 515.561, in paragraph (a) introductory text, remove “§ 515.564(a)” and add in its place “§ 515.564(a)(1)” and remove “§ 515.565(a)(1)(i) through (iv) and (vi)” and add in its place “§ 515.564(a)(1) through (4) and (6)”.

6. Amend § 515.564 as follows:

a. Redesignate paragraph (a) introductory text as paragraph (a)(1) and add a subject heading to newly designated paragraph (a)(1);

b. Redesignate existing paragraph (a)(1) and paragraph (a)(2) as paragraphs (a)(1)(i) and (ii), respectively;

c. In the heading for the example to § 515.564(a), remove “§ 515.564(a)” and add in its place “paragraph (a)(1)”;

d. Redesignate note 1 to paragraph (a) as note 1 to paragraph (a)(1);

e. Redesignate note 2 to paragraph (a) as note 3 to paragraph (a);

f. Add new paragraph (a)(2);

g. In the heading for the example to § 515.564(b), remove “§ 515.564(b)” and add in its place “paragraph (b)”; and

h. In paragraph (e):

i. Remove “either:”;

ii. Add “or professional meetings” after “professional research”;

iii. Remove “does” and add in its place “do”; and

iv. Remove “, or professional meetings or conferences in Cuba that are not otherwise authorized pursuant to other travel-related authorizations and relate to activities otherwise authorized pursuant to this part” and add a period in its place.

The additions reads as follows:

§ 515.564 Professional research and professional meetings in Cuba.

(a) * * *

(1) Professional research. * * *

(2) Professional meetings. The travel-related transactions set forth in § 515.560(c) and such additional transactions as are directly incident to attendance at, or organization of, professional meetings or conferences in Cuba are authorized, provided that:

(i) For a traveler attending a professional meeting or conference, the purpose of the meeting or conference directly relates to the traveler's profession, professional background, or area of expertise, including area of graduate-level full-time study;

(ii) For a traveler organizing a professional meeting or conference on behalf of an entity, either the traveler's profession must be related to the organization of professional meetings or conferences or the traveler must be an employee or contractor of an entity that is organizing the professional meeting or conference; and

(iii) The traveler's schedule of activities does not include free time or recreation in excess of that consistent with a full-time schedule of attendance at, or organization of, professional meetings or conferences.

Note 2 to paragraph (a)(2). Transactions incident to the organization of professional meetings or conferences include marketing related to such meetings or conferences in Cuba.

* * * * *

7. Amend § 515.565 as follows:

a. Revise paragraphs (a) and (b).

b. Remove paragraphs (d) and (e).

c. Redesignate paragraphs (f), (g), and (h) as paragraphs (d), (e), and (f), respectively.

d. In newly designated paragraph (d), remove “(a), (b), (d), or (e)” and add in its place “(a) or (b)”.

e. In newly designated paragraph (f), remove “general license under paragraph (a)” and add in its place “general licenses under paragraph (a) or (b)”.

The revisions read as follows:

§ 515.565 Educational Activities

(a) General license for educational activities. Persons subject to U.S. jurisdiction, including U.S. academic institutions and their faculty, staff, and students, are authorized to engage in the travel-related transactions set forth in § 515.560(c), that are related to:

(1) Participation in a structured educational program in Cuba as part of a course offered for credit by a U.S. graduate or undergraduate degree-granting academic institution that is sponsoring the program;

(2) Noncommercial academic research in Cuba specifically related to Cuba and for the purpose of obtaining an undergraduate or graduate degree;

(3) Participation in a formal course of study at a Cuban academic institution, provided the formal course of study in Cuba will be accepted for credit toward the student's graduate or undergraduate degree;

(4) Teaching at a Cuban academic institution related to an academic program at the Cuban institution, provided that the individual is regularly employed by a U.S. or other non-Cuban academic institution;

(5) Sponsorship of a Cuban scholar to teach or engage in other scholarly activity at the sponsoring U.S. academic institution (in addition to those transactions authorized by the general license contained in § 515.571).

Note 1 to paragraph (a)(5). See § 515.571(a) for authorizations related to certain banking transactions and receipt of salary or other compensation by Cuban nationals present in the United States in a non-immigrant status or pursuant to other non-immigrant travel authorization issued by the U.S. government.

(6) Educational exchanges sponsored by Cuban or U.S. secondary schools involving secondary school students' participation in a formal course of study or in a structured educational program offered by a secondary school or other academic institution and led by a teacher or other secondary school official. This includes participation by a reasonable number of adult chaperones to accompany the secondary school students to Cuba.

(7) Sponsorship or co-sponsorship of noncommercial academic seminars, conferences, symposia, and workshops related to Cuba or global issues involving Cuba and attendance at such events by faculty, staff, and students of a participating U.S. academic institution;

(8) Establishment of academic exchanges and joint non-commercial academic research projects with universities or academic institutions in Cuba;

(9) Provision of standardized testing services, including professional certificate examinations, university entrance examinations, and language examinations, and related preparatory services for such exams, to Cuban nationals, wherever located;

(10) Provision of internet-based courses, including distance learning and Massive Open Online Courses, to Cuban nationals, wherever located, provided that the course content is at the undergraduate level or below;

(11) The organization of, and preparation for, activities described in paragraphs (a)(1) through (10) of this section by employees or contractors of the sponsoring organization that is a person subject to U.S. jurisdiction; or

(12) Facilitation by an organization that is a person subject to U.S. jurisdiction, or a member of the staff of such an organization, of licensed educational activities in Cuba on behalf of U.S. academic institutions or secondary schools, provided that:

(i) The organization is directly affiliated with one or more U.S. academic institutions or secondary schools; and

(ii) The organization facilitates educational activities that meet the requirements of one or more of the general licenses set forth in paragraphs (a)(1) through (3) and (6) of this section.

Note 2 to paragraph (a). See § 515.560(c)(6) for an authorization for individuals to open and maintain accounts at Cuban financial institutions; see § 515.573 for an authorization for entities conducting educational activities authorized by this paragraph (a) to establish a physical presence in Cuba, including an authorization to open and maintain accounts at Cuban financial institutions.

Note 3 to paragraph (a). The authorization in this paragraph extends to adjunct faculty and part-time staff of U.S. academic institutions. A student enrolled in a U.S. academic institution is authorized pursuant to paragraph (a)(1) of this section to participate in the academic activities in Cuba described above through any sponsoring U.S. academic institution.

Note 4 to paragraph (a). The export or reexport to Cuba of items subject to the Export Administration Regulations (15 CFR parts 730 through 774) may require separate authorization from the Department of Commerce.

Note 5 to paragraph (a). See § 515.590(a) for an authorization for the provision of educational grants, scholarships, or awards to a Cuban national or in which Cuba or a Cuban national otherwise has an interest.

(b) General license for people-to-people travel. The travel-related transactions set forth in § 515.560(c) and such additional transactions as are directly incident to educational exchanges not involving academic study pursuant to a degree program are authorized, provided that:

(1) The exchanges take place under the auspices of an organization that is a person subject to U.S. jurisdiction and that sponsors such exchanges to promote people-to-people contact;

(2) Travel-related transactions pursuant to this authorization must be for the purpose of engaging, while in Cuba, in a full-time schedule of activities intended to enhance contact with the Cuban people, support civil society in Cuba, or promote the Cuban people's independence from Cuban authorities;

(3) Each traveler has a full-time schedule of educational exchange activities that will result in meaningful interaction between the traveler and individuals in Cuba;

(4) An employee, paid consultant, or agent of the sponsoring organization accompanies each group traveling to Cuba to ensure that each traveler has a full-time schedule of educational exchange activities; and

(5) The predominant portion of the activities engaged in by individual travelers is not with a prohibited official of the Government of Cuba, as defined in § 515.337, or a prohibited member of the Cuban Communist Party, as defined in § 515.338.

(6) In addition to all other information required by § 501.601 of this chapter, entities sponsoring travel pursuant to the authorization in this paragraph (b) must retain records sufficient to demonstrate that each individual traveler has engaged in a full-time schedule of activities that satisfy the requirements of paragraphs (b)(1) through (5) of this section. Individuals may rely on the entity sponsoring the travel to satisfy their recordkeeping requirements with respect to the requirements of paragraphs (b)(1) through (5) of this section. These records must be furnished to the Office of Foreign Assets Control on demand pursuant to § 501.602 of this chapter.

Example 1 to paragraph (b): An organization wishes to sponsor and organize educational exchanges not involving academic study pursuant to a degree program for individuals to learn side-by-side with Cuban individuals in areas such as environmental protection or the arts. The travelers will have a full-time schedule of educational exchange activities that will result in meaningful interaction between the travelers and individuals in Cuba. The organization's activities qualify for the general license.

Example 2 to paragraph (b): An individual plans to travel to Cuba to participate in discussions with Cuban artists on community projects, exchanges with the founders of a youth arts program, and extended dialogue with local city planners and architects to learn about historical restoration projects in Old Havana. The individual traveler will have a full-time schedule of such educational exchange activities that result in meaningful interaction between the traveler and individuals in Cuba. The individual's activities do not qualify for the general license for people-to-people travel because the individual is not traveling under the auspices of an organization that is a person subject to U.S. jurisdiction and that sponsors such exchanges to promote people-to-people contact. The individual's travel may qualify for the general license in § 515.574 (Support for the Cuban People) provided the individual meets all of its requirements.

Note 6 to paragraph (b). An organization that sponsors and organizes trips to Cuba in which travelers engage in individually selected and/or self-directed activities would not qualify for the general license. Authorized trips are expected to be led by the organization and to have a full-time schedule of activities in which the travelers will participate.

Note 7 to paragraphs (a) and (b). Except as provided in paragraph (b)(6) of this section, each person relying on the general authorizations in these paragraphs, including entities sponsoring travel pursuant to the authorization in paragraph (b) of this section, must retain specific records related to the authorized travel transactions. See §§ 501.601 and 501.602 of this chapter for applicable recordkeeping and reporting requirements.

* * * * *

8. Amend § 515.570 as follows:

a. Remove paragraph (a)(1);

b. Redesignate paragraphs (a)(2) through (4) as paragraphs (a)(1) through (3), respectively;

c. Add paragraph (b);

d. In paragraph (d), remove “§ 515.565(h)” in both places where it appears and add in its place “§ 515.565(f)”; and

e. Add paragraph (h).

The additions read as follows:

§ 515.570 Remittances.

(b) Donative remittances to Cuban nationals authorized. Persons subject to the jurisdiction of the United States are authorized to make donative remittances to Cuban nationals, provided that:

(1) The remittances are not made from a blocked source;

(2) The recipient is not a prohibited official of the Government of Cuba, as defined in § 515.337, a prohibited member of the Cuban Communist Party, as defined in § 515.338, a close relative, as defined in § 515.539, of a prohibited official of the Government of Cuba, or a close relative of a prohibited member of the Cuban Communist Party;

(3) The remittances are not made for emigration-related purposes (which are addressed by paragraph (e) of this section); and

(4) The remitter, if an individual, is 18 years of age or older.

* * * * *

(h) Unblocking of certain previously blocked remittances authorized. Banking institutions, as defined in § 515.314, are authorized to engage in all transactions necessary to unblock and return remittances if they would have qualified as authorized had they been sent under current paragraph (a) or (b) of this section, provided that persons subject to U.S. jurisdiction unblocking remittances originally blocked on or after August 25, 1997 pursuant to this section must submit a report to the Department of the Treasury, Office of Foreign Assets Control, Attn: Sanctions Compliance & Evaluation Division, 1500 Pennsylvania Avenue NW, Freedman's Bank Building, Washington, DC 20220 within 10 business days from the date such remittances are released. Such reports shall include the following:

(1) Where available, a copy of the original blocking report filed with OFAC pursuant to § 501.603(b)(1) of this chapter;

(2) The date the unblocked remittance was released;

(3) The amount of funds unblocked;

(4) The name of the party to whom the remittance was released; and

(5) A reference to this section as the legal authority under which the remittance was unblocked and returned.

* * * * *

9. Amend § 515.572 as follows:

a. Redesignate note to paragraph (a)(5) as note 2 to paragraph (a)(5);

b. Add note 3 to paragraph (a); and

c. Redesignate note to § 515.572 as note 4 to § 515.572.

The addition reads as follows:

§ 515.572 Provision of travel, carrier, other transportation-related, and remittance forwarding services.

(a) * * *

Note 3 to paragraph (a): Section 515.564 authorizes employees, officials, consultants, or agents of persons subject to U.S. jurisdiction providing travel or carrier services or remittance forwarding services authorized pursuant to this part to engage in the travel-related transactions set forth in § 515.560(c) and such additional transactions as are directly incident to travel to Cuba for professional meetings in Cuba, such as those related to safety and security of flights to and from Cuba, or necessary to arrange for travel or carrier services or remittance forwarding to Cuba.

* * * * *

10. Amend § 515.577 by redesignating paragraph (e) as paragraph (f) and adding new paragraph (e).

The addition reads as follows:

§ 515.577 Authorized transactions necessary and ordinarily incident to publishing.

* * * * *

(e) Section 515.564(a)(2) authorizes the travel-related transactions set forth in § 515.560(c) and such additional transactions that are directly incident to attendance at or organization of professional meetings that are necessary and ordinarily incident to the publishing and marketing of written publications.

* * * * *

§ 515.591 [Amended]

11. In note 2 to § 515.591, after “professional research”, add “and professional meetings”.

Andrea M. Gacki,
Director, Office of Foreign Assets Control.

[FR Doc. 2022-12445 Filed 6-8-22; 8:45 am]

BILLING CODE 4810-AL-P